FEDERAL COMMUNICATIONS COMMISSION

47 CFR Parts 1 and 2

[ET Docket No. 03-137, 13-84 and 19-226; Report No. 3155; FRS 16970]

Petitions for Reconsideration of Action in Proceedings

AGENCY: Federal Communications Commission.

ACTION: Petitions for Reconsideration.

SUMMARY: Petitions for Reconsideration (Petitions) have been filed in the Commission's proceeding by Donald J. Evans, on behalf of National Spectrum Manager's Association.

DATES: Oppositions to the Petitions must be filed on or before September 29, 2020. Replies to an opposition must be filed on or before October 9, 2020.

ADDRESSES: Federal Communications Commission, 445 12th Street SW, Washington, DC 20554.

FOR FURTHER INFORMATION CONTACT: Martin Doczkat, (202) 418-2435, Office of Engineering and Technology, Chief of Electromagnetic Compatibility Division, (202) 418-0636.

SUPPLEMENTARY INFORMATION: This is a summary of the Commission's document, Report No. 3155, released July 27, 2020. Petitions may be accessed online via the Commission's Electronic Comment Filing System at: http://apps.fcc.gov/ecfs/. The Commission will not send a Congressional Review Act (CRA) submission to Congress or the Government Accountability Office pursuant to the CRA, 5 U.S.C. 801(a)(1)(A), because no rules are being adopted by the Commission.

Subject: Proposed Changes in the Commission's Rules Regarding Human Exposure to Radiofrequency Electromagnetic Fields; Reassessment of Federal Communications Commission Radiofrequency Exposure Limits and Policies; Targeted Changes to the Commission's Rules Regarding Human Exposure to Radiofrequency Electromagnetic Fields, FCC 19-126, published 85 FR 18131, April 01, 2020 in ET Docket Nos. 03-137 (Terminated), 13-84 (Terminated), and 19-226. This document is being published pursuant to 47 CFR 1.429(e). See also 47 CFR 1.4(b)(1) and 1.429(f), (g).

Number of Petitions Filed: 1.

Federal Communications Commission.
Marlene Dortch,
Secretary, Office of the Secretary.

[FR Doc. 2020-16883 Filed 9-11-20; 8:45 am]

BILLING CODE 6712-01-P